DEPARTMENT OF COMMERCE

National Oceanic and Atmospheric Administration

RIN 0648-XD606

New England Fishery Management Council; Public Hearings

AGENCY: National Marine Fisheries Service (NMFS), National Oceanic and Atmospheric Administration (NOAA), Commerce.

ACTION: Notice; public hearings.

SUMMARY: The New England Fishery Management Council (Council) will hold twelve public hearings to solicit Public comments on Draft Omnibus Habitat Amendment 2 to the Habitat Fishery Management Plan (FMP).

DATES: Written Public comments must be received on or before 5 p.m. EST, Thursday, January 8, 2015. These meetings will be held in November and December of 2014 as well as January, 2015. For specific dates and times, see SUPPLEMENTARY INFORMATION.

ADDRESSES: The Public hearing document can be obtained by contacting the New England Fishery Management Council, 50 Water Street, Mill 2, Newburyport, MA 01950.

Meeting addresses: The meetings will be held in Portsmouth, NH; Plymouth, MA; Warwick, RI; Riverhead, NY; Cape May, NJ; Baltimore, MD; New Bedford, MA; Gloucester, MA; Newport News, VA; Brewer, ME; Portland, ME and there will also be an opportunity for the public to participate in a Webinar. For specific locations, see SUPPLEMENTARY INFORMATION.

Public comments: Mail to John Bullard, Regional Administrator, National Marine Fisheries Service, Greater Atlantic Regional Fisheries Office, 55 Great Republic Drive, Gloucester, MA 01930. Mark the outside of the envelope “OA2 DEIS Comments”. Comments may also be sent via fax to 978-281-9207 or submitted via email to nmfs.gar.OA2.DEIS@noaa.gov with “OA2 DEIS Comments ” in the subject line.

FOR FURTHER INFORMATION CONTACT: Thomas A. Nies, Executive Director, New England Fishery Management Council; telephone: (978) 465-0492.

SUPPLEMENTARY INFORMATION: The agendas for the following twelve hearings are as follows: New England Council staff will brief the public on the Omnibus Habitat Amendment 2 before opening each hearing for public comments. The public hearing schedule is as follows:

Public Hearings: Locations and Schedules

1. Monday, November 24, 2014 from 6-8 p.m.; Sheraton Harborside, 250 Market Street, Portsmouth, NH, 03801; telephone: (603) 431-2300.

2. Tuesday, November 25, 2014 from 6-8 p.m.; Radisson Hotel, 180 Water Street, Plymouth, MA 02360; telephone: (508) 747-4900.

3. Tuesday, December 2, 2014 from 6-8 p.m.; Radisson Airport Hotel, 2081 Post Road, Warwick, RI 02886; telephone: (401) 739-3000.

4. Thursday, December 4, 2014 from 6-8 p.m.; Hotel Indigo, 1830 West Main St., Rte. 25, Riverhead, NY 11901; telephone: (631) 369-2200.

5. Friday, December 5, 2014 from 6-8 p.m.; Grand Hotel, 1045 Beach Avenue, Cape May, NJ 08204; telephone: (609) 884-5611.

6. Tuesday December 9, 2014 from 10 a.m.-11:45 a.m.; Royal Sonesta, 550 Light Street, Baltimore, MD 21202; telephone: (410) 234-0550.

7. Tuesday, December 16, 2014 from 6-8 p.m.; Fairfield Inn & Suites, 185 MacArthur Drive, New Bedford, MA 02740; telephone: (774) 634-2000.

8. Wednesday, December 17, 2014 from 6-8 p.m.; MA DMF Annisquam Station, 30 Emerson Avenue, Gloucester, MA 01930; telephone: (978) 282-0308.

9. Thursday, December 18, 2014 from 6-8 p.m.; Hilton Garden Inn, 180 Regal Way, Newport News, VA 23602; telephone: (757) 947-1080.

10. Monday, January 5, 2015 from 3 p.m.-5 p.m.; Webinar, Reserve your online seat: https://www4.gotomeeting.com/register/278328207 or Call in: Toll: +1 (646) 307-1706; Access Code: 911-628-108.

11. Tuesday, January 6, 2015 from 6-8 p.m.; Jeff's Catering and Event Center, 15 Littlefield Road, Brewer, ME 04412; telephone: (207) 989-1811.

12. Wednesday, January 7, 2015 from 6-8 p.m.; Holiday Inn by the Bay, 88 Spring Street, Portland, ME 04101; telephone: (207) 775-2311.

Special Accommodations

These hearings are physically accessible to people with disabilities. Requests for sign language interpretation or other auxiliary aids should be directed to Thomas A. Nies (see ADDRESSES), at least 5 working days prior to the meeting date.

Authority: 16 U.S.C. 1801 et seq.

Dated: November 4, 2014.
Tracey L. Thompson,
Acting Deputy Director, Office of Sustainable Fisheries, National Marine Fisheries Service.

[FR Doc. 2014-26489 Filed 11-6-14; 8:45 am]

BILLING CODE 3510-22-P